DEPARTMENT OF DEFENSE

Office of the Secretary

[Docket ID DOD-2015-OS-0129]

Proposed Collection; Comment Request

AGENCY: Office of the Under Secretary of Defense for Intelligence, DoD.

ACTION: Notice.

SUMMARY: In compliance with the Paperwork Reduction Act of 1995, the Office of the Under Secretary of Defense for Intelligence announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 9, 2017.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Under Secretary of Defense for Intelligence, Office of the Director for Defense Intelligence (Intelligence & Security), Security Policy and Oversight Division (SPOD), 5000 Defense Pentagon, Room 2B718, ATTN: Valerie Heil, Arlington, VA 20301-5000, or call ODDI(I&S) SPOD at 703-692-3754.

SUPPLEMENTARY INFORMATION: Title; Associated Form; and OMB Number: Department of Defense Contract Security Classification Specification, DD Form 254; OMB Control Number 0704-XXXX.

Needs and Uses: The information collection requirement, authorized by the DoD 5220.22-R, “DoD Industrial Security Regulation,” and the Federal Acquisition Regulation, is necessary to provide security classification guidance to a U.S. contractor and any subcontractors in connection with a contract requiring access to classified information (hereinafter referred to as a “classified contract”). The DD Form 254, with its attachments, supplements, and incorporated references, is the principal authorized means for providing security classification guidance to a U.S. contractor in connection with a classified contract.

Affected Public: Business or other for profit.

Annual Burden Hours: 37,948.67.

Number of Respondents: 3,211.

Responses per Respondent: 10.13.

Annual Responses: 32,527.43.

Average Burden per Response: 70 minutes.

Frequency: On occasion.

Respondents will already be a cleared contractor facility in the National Industrial Security Program under the security cognizance of DSS on behalf of Department of Defense (DoD). Such NISP contractors must provide contract security classification specifications with any classified subcontracts that they award to comply with the requirements of the National Industrial Security Program Operating Manual, DoD 5220.22-M. For those contractors under DoD security cognizance, that means using the DD Form 254, if awarding any contracts that require access to classified information for contract performance. If the form is not included with the classified contract, DSS, on behalf of DoD and those non-DoD agencies with which DoD has agreements for industrial security services, is unable to conduct effective oversight to determine that classified information is being protected according to contract or subcontract requirements.

Dated: March 7, 2017.
Aaron Siegel,
Alternate OSD Federal Register Liaison Officer, Department of Defense.

[FR Doc. 2017-04775 Filed 3-9-17; 8:45 am]

BILLING CODE 5001-06-P